DEPARTMENT OF THE TREASURY

Internal Revenue Service

26 CFR Part 31

[REG-162813-04]

RIN 1545-BE20

Withholding Exemptions: Correction

AGENCY: Internal Revenue Service (IRS), Treasury.

ACTION: Correction to Notice of proposed rulemaking by cross-reference to temporary regulations.

SUMMARY: This document corrects a notice of proposed rulemaking by cross-reference to temporary regulations that was published in the Federal Register on Thursday, April 14, 2005 (70 FR 19721). The document contains temporary regulations providing guidance under section 3402(f) of the Internal Revenue Code (Code) for employers and employees relating to the Form W-4, “Employee's Withholding Allowance Certificate.”

FOR FURTHER INFORMATION CONTACT: Margaret A. Owens, (202) 622-0047 (not a toll-free number).

SUPPLEMENTARY INFORMATION:

Background

The notice of proposed rulemaking by cross-reference to temporary regulations (REG-162813-04), that is the subject of this correction is under section 3402 of the Internal Revenue Code.

Need for Correction

As published, the notice of proposed rulemaking by cross-reference to temporary regulations (REG-162813-04) contains an error that may prove to be misleading and is in need of clarification.

Correction of Publication

Accordingly, the notice of proposed rulemaking by cross-reference to temporary regulations (REG-162813-04) that was the subject of FR Doc. 05-6719, is corrected as follows:

On page 19722, column 2, under the amendatory instructional “Paragraph 1.”, Line 2, the language “for part 1 continues to read, in part, as” is corrected to read, “for part 31 continues to read, in part, as”.

Cynthia Grigsby,
Acting Chief, Publications and Regulations Branch, Legal Processing Division, Associate Chief Counsel (Procedures and Administration).

[FR Doc. 05-9611 Filed 5-16-05; 8:45 am]

BILLING CODE 4830-01-P